DEPARTMENT OF TRANSPORTATION

Federal Railroad Administration

Petition for Waiver of Compliance

In accordance with part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Canadian National Railway Company

(Waiver Petition Docket Number FRA-2009-0075)

The Canadian National Railway Company (CN), the United Transportation Union (UTU), and the Brotherhood of Locomotive Engineers and Trainmen (BLET) jointly petitioned to establish a pilot project under 49 U.S.C. 21108 providing for an alternative means of measuring the monthly cycle under which employees' on-duty hours are capped at 276 hours per month. The pilot project would be made possible by a partial waiver of 49 U.S.C. 21103(a)(1), permitting the cap on total service for certain train employees to be computed on other than a calendar month basis. The parties propose to divide the affected employees into two groups, one of which would measure their on-duty time from the first day of each month to the last day of the same month. For the other group, the measurement would be made from the fifteenth (15th) day of the month until the fourteenth (14th) day of the following month. The parties aver that this approach will be as effective as the statutory pattern in preventing fatigue while ensuring that rested employees will be available throughout each calendar month. The entire joint CN, UTU and BLE petition may be viewed at http://www.regulations.gov under the docket number listed above.

Interested parties are invited to participate in these proceedings by submitting written views, data, or comments. FRA does not anticipate scheduling a public hearing in connection with these proceedings, since the facts do not appear to warrant a hearing. If any interested party desires an opportunity for oral comment, they should notify FRA, in writing, before the end of the comment period and specify the basis for their request.

All communications concerning these proceedings should identify the appropriate docket number (Docket Number FRA-2009-0075) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 20 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on July 28, 2009.
Grady C. Cothen, Jr.,
Deputy Associate Administrator for Safety Standards and Program Development.

[FR Doc. E9-18443 Filed 7-31-09; 8:45 am]

BILLING CODE 4910-06-P